DEPARTMENT OF THE INTERIOR

National Park Service

[NPS-WASO-NRSS-NPS0031626; PPWONRADE3, PPMRSNR1Y.NM0000 (211); OMB Control Number 1024-NEW]

Agency Information Collection Activities; Socioeconomic Monitoring Study of National Park Service Visitors

AGENCY: National Park Service, Interior.

ACTION: Notice of Information Collection; request for comment.

SUMMARY: In accordance with the Paperwork Reduction Act of 1995 we, the National Park Service (NPS), are proposing a new information collection.

DATES: Interested persons are invited to submit comments on or before October 26, 2021.

ADDRESSES: Send your comments on this information collection request (ICR) by mail to Phadrea Ponds, NPS Information Collection Clearance Officer, 1201 Oakridge Drive, Fort Collins, CO 80525; or by email to phadrea_ponds@nps.gov. Please reference Office of Management and Budget (OMB) Control Number 1024-NEW (SEM) in the subject line of your comments.

FOR FURTHER INFORMATION CONTACT: To request additional information about this ICR, contact Bret Meldrum by email at bret_meldrum@nps.gov, or by telephone at 970-267-7295. Individuals who are hearing or speech impaired may call the Federal Relay Service at 1-800-877-8339 for TTY assistance.

SUPPLEMENTARY INFORMATION: In accordance with the Paperwork Reduction Act of 1995 (PRA) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology (e.g., permitting electronic submission of response).

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS Social Science Program (SSP) is authorized by 54 U.S.C. 100701 to collect information that will improve the ability of the NPS to provide state-of the-art management, protection, and interpretation of, and research on, the resources of the System. However, the data currently available from survey research is insufficient for generalizing findings across all national park units in the System with regards to visitor experiences, attitudes, and spending behaviors. Past and present socioeconomic research in NPS units do not allow for comparison across units or against a regional and nationwide benchmark of information. Without this data, local, regional, and national-level NPS managers lack a comprehensive understanding of visitor demographics, economic contribution, and visitation related experiences in park units needed to to monitor how well the System is serving the public.

In 2016, the NPS SSP conducted a pilot study in 14 NPS units to identify and better understand the need for more advanced socioeconomic monitoring. The pilot study produced and verified a study design that will allow SSP to fully implement a Socioeconomic Monitoring Study (SEM). Building on the findings from the pilot study, the SEM will collect information from visitors in up to 30 National Park units annually to provide generalizable results for NPS managers and planners across the System to understand and monitor: visitor demographics, economic contribution, services, facilities and infrastructure investments. Individual park units will be able to compare their unit with regional and national-level data to make informed decisions in future planning and management efforts.

Title of Collection: Socioeconomic Monitoring Study of National Park Service Visitors.

OMB Control Number: 1024-NEW.

Form Number: None.

Type of Review: New.

Respondents/Affected Public: General Public; any person visiting a national park during a sampling period.

Total Estimated Number of Annual Respondents: 50,320. (37,000 on-site surveys and 13,320 mail back surveys).

Estimated Completion Time per Response: On-site Survey: 5 minutes; Mail back Survey: 15 minutes.

Total Estimated Number of Annual Burden Hours: 6,413.

Respondent's Obligation: Voluntary.

Frequency of Collection: Once.

Total Estimated Annual Nonhour Burden Cost: None.

An agency may not conduct or sponsor nor is a person is required to respond to a collection of information unless it displays a currently valid OMB control number.

The authority for this action is the Paperwork Reduction Act of 1995 (44 U.S.C. 3501 et seq.).

Phadrea Ponds,
Information Collection Clearance Officer, National Park Service.

[FR Doc. 2021-18513 Filed 8-26-21; 8:45 am]

BILLING CODE 4312-52-P